DEPARTMENT OF ENERGY

Federal Energy Regulatory Commission

[Docket No. RP00-359-000]

Koch Gateway Pipeline Company; Notice of Proposed Changes to FERC Gas Tariff

July 3, 2000.

Take notice that on June 29, 2000, Koch Gateway Pipeline Company (Koch) tendered for filing as part of its FERC Gas Tariff, Fifth Revised Volume No. 1, the following tariff sheets, to become effective July 31, 2000.

Fourteenth Revised Sheet No. 1

Fourth Revised Sheet No. 4000

Second Revised Sheet No. 4001

Original Sheet No. 4002

Original Sheet No. 4003

Koch states that it is proposing to create a new auction process for its Interruptible Storage Service (ISS) and Parking and Lending Service (PAL). The proposed tariff changes will create an interactive auction whereby interested shippers will be able to bid on ISS and PAL capacity and thus, will provide a more efficient process and greater price transparency to Koch's customers. Koch states that any PAL and ISS transaction beginning in future months will be included in the new auction process, however, any transaction involving the cash market will not be included.

Koch states that copies of this filing have been served upon Koch's customers, state commissions and other interested parties.

Any person desiring to be heard or to protest said filing should file a motion to intervene or a protest with the Federal Energy Regulatory Commission, 888 First Street, N.E., Washington, DC 20426, in accordance with sections 385.214 or 385.211 of the Commission's rules and regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-17326 Filed 7-7-00; 8:45 am]

BILLING CODE 6717-01-M